DEPARTMENT OF TRANSPORTATION

Coast Guard

33 CFR Part 100

[CGD07-02-122]

RIN 2115-AE46

Special Local Regulations; Winterfest Boat Parade, Broward County, Fort Lauderdale, FL

AGENCY: Coast Guard, DOT.

ACTION: Final rule.

SUMMARY: The Coast Guard is establishing special local regulations for the annual Winterfest Boat Parade held on the first Saturday falling between December 13 and 19, inclusive, each year in Fort Lauderdale, Florida. This rule creates four separate regulated areas and restricts operations of non-participant vessels in the regulated areas. These regulations are to provide for the safety of life on navigable waters during the event.

DATES: This rule is effective from 4 p.m. until 11 p.m. annually, on the first Saturday falling between December 13 and 19, inclusive.

ADDRESSES: Documents indicated in this preamble as being available in the docket, are part of [CGD07-02-122] and are available for inspection or copying at Coast Guard Group Miami, 100 MacArthur Causeway, Miami Beach, Florida, 33139 between 8 a.m. and 4 p.m., Monday through Friday, except Federal holidays.

FOR FURTHER INFORMATION CONTACT: BMC Sorensen or BM1 Vaughn, Coast Guard Group Miami, Florida at (305) 535-4317.

SUPPLEMENTARY INFORMATION:

Regulatory Information

On October 31, 2002, we published a notice of proposed rulemaking (NPRM) entitled “Special Local Regulations; Winterfest Boat Parade, Borward County, Fort Lauderdale, FL” in the Federal Register (67 FR 66349). We did not receive any letters commenting on the proposed rule. No public hearing was requested, and none was held.

Background and Purpose

The Winterfest Boat Parade is a nighttime parade of approximately 110 pleasure boats ranging in length from 20 feet to 200 feet decorated with holiday lights. Approximately 1500 spectator craft typically view the parade. The parade will form in the staging area at the Port Everglades turning basin and on a portion of the Intracoastal Waterway (ICW) south of the turning basin and will proceed north on the ICW to Lake Santa Barbara where the parade will disband.

These regulations create regulated areas for the staging area, judging area, viewing area, and parade route. Non-participant vessels are prohibited from entering or anchoring in the staging area. Further, no vessel is allowed to enter or anchor in the viewing and judging areas. During the parade transit, these regulations prohibit non-participant vessels from approaching within 175 yards ahead of the lead vessel and 175 yards astern of the last participant vessel in the parade, and within 15 yards on either side of the outboard parade vessels, unless authorized by the Coast Guard Patrol Commander. The event sponsor will have watercraft in the area to guide mariners around the regulated areas.

The staging area of this regulation overlaps with existing security zones published in 33 CFR Part 165 by the Coast Guard Captain of the Port of Miami. These security zones are activated when passenger vessels, vessels carrying cargoes of particular hazard, or vessels carrying liquified hazardous gas as defined in 33 CFR parts 120, 126, and 127 respectively, enter or moor in Port Everglades. These security zones remain in effect during this event and no person or vessel may enter the security zones without the permission of the Coast Guard Patrol Commander.

Discussion of Comments and Changes

The Coast Guard received no comments on the proposed rule and is adopting it in whole.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040; February 26, 1979) because this rule is only in effect for 7 hours each year and the Coast Guard Patrol Commander may allow vessels to enter portions of the regulated areas on a case-by-case basis.

Small Entities

Under the Regulatory Flexibility Act (5 U.S.C. 601-612), the Coast Guard considered whether this rule would have a significant economic effect upon a substantial number of small entities. The term “small entities” include small business, not-for-profit organizations that are independently owned and operated and are not dominant in their fields, and governmental jurisdictions with populations of less than 50,000.

This rule may affect the following entities, some of which may be small entities: the owners or operators of vessels intending to transit or anchor in the regulated areas during the Winterfest Boat Parade. The Coast Guard certifies under 5 U.S.C. 605(b) that this rule will not have a significant economic impact on a substantial number of small entities because this rule is only in effect for 7 hours each year and the Coast Guard Patrol Commander may allow vessels to enter portions of the regulated areas on a case-by-case basis.

Assistance for Small Entities

Under section 213(a) of the Small Business Regulatory Enforcement Fairness Act of 1996 (Public Law 104-121), we offer to assist small entities in understanding the rule so that they can better evaluate its effects on them and participate in the rulemaking process. Small entities may contact the person listed under FOR FURTHER INFORMATION CONTACT for assistance in understanding and participating in this rulemaking. We also have a point of contact for commenting on actions by employees of the Coast Guard. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information requirements under the Paperwork Reduction Act (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandate Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Although this rule will not result in such expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard has considered the environmental impact of this action and has determined pursuant to Figure 2-1, paragraph 34(h) of Commandant Instruction M16475.1D, that this action is categorically excluded from further environmental documentation.

List of Subjects in 33 CFR Part 100

Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 33 U.S.C. 1233; 49 CFR 1.46.

2. Add § 100.735 to read as follows:

§ 100.735 Winterfest Boat Parade, Broward County, Fort Lauderdale, Florida

(a) Regulated areas. (1) Staging area. The staging area consists of all waters of the Port Everglades turning basin, including the North and South extensions, all waters of the Bar Cut west of a line from position 26°05.668′ N, 080°06.491′ W, to position 26°05.557′ N, 080°06.491′ W, and all waters of the ICW, bank to bank, from Dania Sound Light 35 (LLNR 47575) to the Port Everglades turning basin.

(2) Parade route. The parade route consists of the Intracoastal Waterway (ICW), bank to bank, from a line drawn across the ICW at the 17th Street Causeway Bridge between position 26°06.098′ N, 080°07.179′ W and position 26°06.092′ N, 080°07.085′ W, to Pompano Beach Daybeacon 74 (LLNR 47230).

(3) Viewing area. The viewing area consists of all waters of the ICW east of the centerline of the charted channel from the Sunrise Boulevard Bridge (26°08.281′ N, 080°06.482′ W) past Hugh Taylor Birch State Park to position 26°09.0′ N, 080°06.3′ W at the north end of Hugh Taylor Birch State Park.

(4) Judging area. The judging area consists of an area of the ICW, bank to bank, from a point on the northwest side of the 17th Street Causeway Bridge in position 26°06.098′ N, 080°07.179′ W, north to position 26°06.131′ N, 080°07.19′ W, then east to position 26°06.131′ N, 080°07.10′ W, then back south to position 26°06.092′ N, 080°07.085′ W at the northeast side of the 17th Street Causeway Bridge.

(b) Special local regulations. (1) Staging area. Non-participant vessels are prohibited from entering or anchoring in the staging area, unless authorized by the Coast Guard Patrol Commander. The Coast Guard Patrol Commander may allow vessels to enter the staging area when the last participant vessel has departed the staging area. The Coast Guard Patrol Commander will notify the public via Marine Safety Radio Broadcast on VHF Marine Band Radio, Channel 16 (157. MHz) if vessels are allowed to enter the staging area.

(2) Parade route. During the parade transit, non-participant vessels are prohibited from approaching within 175 yards ahead of the lead vessel and 175 yards astern of the last participating vessel in the parade, and within 15 yards either side of the parade unless authorized by the Coast Guard Patrol Commander.

(3) Viewing and judging areas. Vessels are prohibited from entering or anchoring in the viewing and judging areas unless authorized by the Coast Guard Patrol Commander.

(4) Coast Guard Patrol Commander. The Coast Guard Patrol Commander is a commissioned, warrant, or petty officer of the Coast Guard who has been designated by the Commander, Coast Guard Group Miami, Florida and is also the designated representative of the Captain of the Port of Miami for purposes of enforcing security zones in Port Everglades during this event.

(c) Dates. This section is effective from 4 p.m. until 11 p.m. annually, on the first Saturday falling between December 13 and 19, inclusive.

Dated: December 6, 2002.
F.M. Rosa,
Captain, U.S. Coast Guard, Acting Commander, Seventh Coast Guard District.

[FR Doc. 02-31601 Filed 12-13-02; 8:45 am]

BILLING CODE 4910-15-P